DEPARTMENT OF THE INTERIOR

Bureau of Land Management

[NV-030-5700-BX; Closure Notice No. NV-030-03-001]

Temporary Closure of Public Lands: Washoe County, NV

AGENCY: Bureau of Land Management, Nevada.

ACTION: Notice of closure.

SUMMARY: The Carson City Field Office Manager announces the temporary closure of selected public lands under his administration. This action is being taken to provide for public safety during the 2003 Pylon Racing Seminar and 2003 Reno National Championship Air Races.

EFFECTIVE DATES: June 19 through June 22, 2003, and September 7 through September 14, 2003.

FOR FURTHER INFORMATION CONTACT: Charles P. Pope, Assistant Manager, Nonrenewable Resources, Carson City Field Office, 5665 Morgan Mill Road, Carson City, Nevada 89701. Telephone (775) 885-6000.

SUPPLEMENTARY INFORMATION: This closure applies to all the public, on foot or in vehicles. The public lands affected by this closure are described as follows:

Mt. Diablo Meridian

T. 21 N., R. 19 E.,

Sec. 8, N1/2NE1/4, SE1/4NE1/4 and E1/2SE1/4;

Sec. 16, N1/2 and SW1/4.

Aggregating approximately 680 acres.

The above restrictions do not apply to emergency or law enforcement personnel or event officials. The authority for this closure is 43 CFR 8364.1. Persons who violate this closure order are subject to arrest and, upon conviction, may be fined not more than $1,000 and/or imprisoned for not more than 12 months.

A map of the closed area is posted in the Carson City Field Office of the Bureau of Land Management.

Dated: January 27, 2003.
Charles P. Pope,
Assistant Manager, Nonrenewable Resources, Carson City Field Office.

[FR Doc. 03-7171 Filed 3-25-03; 8:45 am]

BILLING CODE 4310-HC-P